INTERNATIONAL TRADE COMMISSION

American Manufacturing Competitiveness Act of 2016: Notice of Publication of Petitions For Duty Suspensions and Reductions and Related Disclosure Forms, and Notice of Request for Comments on Those Petitions and Disclosure Forms

AGENCY: United States International Trade Commission.

ACTION: Notice of publication on the Commission's website of petitions for duty suspensions and reductions and related disclosure forms, and notice of request for comments on those petitions and disclosure forms.

SUMMARY: As required by section 3(b)(3) of the American Manufacturing Competitiveness Act of 2016, the Commission has published on its website at https://mtbps.usitc.gov the petitions for duty suspensions and reductions and related disclosure forms (hereafter collectively referred to as “petitions”) that were filed according to requirements. The Commission is now requesting that members of the public submit comments to the Commission on those petitions by the close of business on February 24, 2020. All comments must be submitted via the Commission's designated secure web portal. The Commission will not accept comments submitted in paper or in any other form or format.

DATES: January 10, 2020: Date of publication on the Commission's website of petitions for duty suspensions and reductions, and opening date for filing comments concerning those petitions.

February 24, 2020, 5:15 p.m., EST: Closing date and time for the submission of comments on the petitions.

ADDRESSES: All Commission offices are located in the United States International Trade Commission Building, 500 E Street SW, Washington, DC. The public file for this proceeding may be viewed on the Commission's Miscellaneous Tariff Bill Petition System (MTBPS) at https://mtbps.usitc.gov.

FOR FURTHER INFORMATION CONTACT: For general inquiries, contact mtbinfo@usitc.gov. For filing inquiries, contact the Office of Secretary, Docket Services Division, U.S. International Trade Commission, at mtbpshelp@usitc.gov or (202) 205-3238.

The media should contact Peg O'Laughlin, Public Affairs Officer (202-205-1819 or margaret.olaughlin@usitc.gov). General information concerning the Commission may be obtained at https://www.usitc.gov.

Background: The American Manufacturing Competitiveness Act of 2016 (the Act), 19 U.S.C. 1332 note, establishes a process for the submission and consideration of petitions. The Act requires the Commission to initiate the process by publishing a notice requesting members of the public who can demonstrate that they are likely beneficiaries of duty suspensions or reductions to submit petitions to the Commission. As required by the Act, the Commission published that notice in the Federal Register on October 11, 2019 (84 FR 54924), with all such petitions to be submitted by the close of business on December 10, 2019.

Section 3(b)(3)(A) of the Act requires that the Commission, no later than 30 days after the expiration of the period for filing petitions, that is, by January 10, 2020, publish on its website the petitions that contain the information required by the Act. Section 3(b)(3)(B) of the Act requires that the Commission, at the same time, publish a notice requesting members of the public to submit comments to the Commission on the petitions published. Such comments must be submitted to the Commission during the 45-day period beginning on the date of publication of the notice—in this case, by February 24, 2020.

The Act requires the Commission to submit preliminary and final reports to the House Committee on Ways and Means and the Senate Committee on Finance (Committees) on the petitions received. The Commission will submit those reports in June and August 2020, respectively. The reports are to include the Commission's analysis and determinations regarding the petitions, including whether there is domestic production of the article, whether the duty suspension or reduction can likely be administered by the U.S. Customs and Border Protection (CBP), whether the estimated loss in revenues due to the duty suspension or reduction does not exceed $500,000, and whether the duty suspension or reduction will be available to any person importing the article. The Commission is required to classify the petitions into categories based on whether (1) the petition meets the requirements for inclusion in a miscellaneous tariff bill as submitted or with specified technical changes, changes in product scope, or adjustment in the amount of duty reduction; (2) the petition does not meet the petitioning requirements or the petitioner is not a likely beneficiary; and (3) the Commission otherwise recommends not including the petition in the bill. The Committees and the Congress will make the final decision regarding the imported articles to be included in a bill.

The Act also requires the U.S. Department of Commerce (Commerce), with input from CBP and other Federal agencies, to submit a report to the Commission and to the Committees. This report is to include information related to domestic production and technical changes that are necessary for purposes of administration when articles are presented for importation.

Procedures for Filing a Comment: The Commission has promulgated rules of practice and procedure regarding the process for filing comments on the petitions filed. The rules, as amended, are published at 19 CFR part 220 (84 FR 44687, Aug. 27, 2019). See in particular 19 CFR 220.10—220.11. The rules are also posted on the Commission's website along with other materials, including a handbook, designed to assist the public in filing petitions and comments—see https://www.usitc.gov/trade_tariffs/mtb_program_information. Highlights of the filing procedures are presented below only as an overview; persons who are considering filing comments should consult the Commission's rules, handbook, and other materials.

Who may file. As provided for in the Act and in the Commission's rules, any member of the public may file comments. The Commission is particularly interested in receiving comments from domestic producers about whether they produce an article that is identical to, or like or directly competitive with, an article that is the subject of a petition for a duty suspension or reduction, and, if they do, whether they object to such a duty suspension or reduction. The Commission is also interested in receiving comments from individuals and entities who believe that they would be a likely beneficiary of a particular duty suspension or reduction, or who, having been named in the petition or another comment as a likely beneficiary, wish to state that they would not be a likely beneficiary of a particular duty suspension or reduction. The Act defines “likely beneficiary” to mean “an individual or entity likely to utilize, or benefit directly from the utilization of, an article that is the subject of a petition for a duty suspension or reduction.”

Petitioning parties may also submit comments. However, the Commission will not consider any comments that seek to amend a petition that the submitter previously filed.

Method for filing. Comments concerning petitions must be filed electronically via the Commission's designated secure web portal and in the format designated by the Commission in that portal. The portal contains a series of prompts and links that will assist persons in providing the required information. The Commission will not accept comments submitted in paper or in any other form or format. Comments, including any attachments thereto, must otherwise comply with the Commission's rules as further explained in the Commission's Handbook on MTB Filing Procedures. Persons seeking to comment on more than one petition must submit a separate comment for each petition.

Persons filing comments should be prepared to complete their entire comment when they enter the portal because the portal will not allow them to edit, amend, or complete the comment at a later time. Accordingly, a person filing a comment should have all required information in hand when they enter the portal to begin the formal filing process. A list of all the information required to complete a comment may be found in the Commission's Before You File a Comment guide, which is located on the the Commission's MTB information page at https://www.usitc.gov/trade_tariffs/mtb_program_information.

Time for filing. To be considered, comments must be filed no earlier than the publication date of this notice in the Federal Register and no later than the close of business (5:15 p.m. EST) on February 24, 2020. Consistent with the Act, the Commission will not accept comments filed after that time and date.

Amendment and withdrawal of comments. The Commission's secure web portal will not allow a person who has formally submitted a comment to amend that comment. Instead, that person must withdraw the original comment and file a new comment that incorporates the changes. The new comment must be filed within the 45-day period designated for submitting comments (i.e., before 5:15 p.m. EST on February 24, 2020).

Comments containing confidential business information. The portal will permit persons submitting comments to claim that certain information should be treated either as confidential business information or as information protected from disclosure under the Privacy Act, 5 U.S.C. 552a, (e.g., a home address). In the absence of a claim that such information should be so treated, the Commission will disclose the information to the public when it posts the comments and attachments on the Commission's website. See further information below on possible disclosure of confidential business information.

Confidential Business Information. The Commission will not release information that the Commission considers to be confidential business information within the meaning of § 201.6(a) of its Rules of Practice and Procedure (19 CFR 201.6) unless the party submitting the confidential business information had notice, at the time of submission, that such information would be released by the Commission, or such party subsequently consents to the release of the information.

Confidential business information submitted to the Commission in comments may be disclosed to or used by (1) the Commission in calculating the estimated revenue loss required under the Act, which may be based in whole or in part on the estimated values of imports submitted in comments, as well as by petitioners in their petitions; or (2) the Commission, its employees, and contract personnel (a) in processing petitions and comments and preparing reports under the Act or (b) in internal investigations, audits, reviews, and evaluations relating to the programs, personnel, and operations of the Commission, including under 5 U.S.C. Appendix 3; or (3) Commerce, for use in preparing its report to the Commission and the Committees, and the U.S. Department of Agriculture and CBP, for use in providing information for that report; or (4) U.S. government employees and contract personnel, solely for cybersecurity purposes, subject to the requirement that all contract personnel will sign appropriate nondisclosure agreements.

By order of the Commission.
Issued: January 3, 2020.
William Bishop,
Supervisory Hearings and Information Officer.

[FR Doc. 2020-00100 Filed 1-9-20; 8:45 am]

BILLING CODE 7020-02-P